DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Pacific Islands Region Coral Reef Ecosystems Logbook and Reporting.

Form Number(s): None.

OMB Approval Number: 0648-0462.

Type of Request: Regular submission.

Burden Hours: 382.

Number of Respondents: 5.

Average Hours per Response: At-sea notification, 3 minutes; daily catch report, 30 minutes; and transshipment log, 15 minutes.

Needs and Uses: Under the Magnuson-Stevens Fishery Conservation and Management Act, logbooks are required for United States (U.S.) fishing vessels registered to use (or any U.S. citizen issued with) a Special Coral Reef Ecosystem Fishing Permit authorized under the Fishery Management Plan for Coral Reef Ecosystems of the Western Pacific Region. The information in the mandatory logbooks are used to obtain fish catch/fishing effort data on coral reef taxa harvested in designated low-use marine protected areas and on potentially harvested coral reef taxa in certain waters of the U.S. exclusive economic zone in the western Pacific region. These data are needed to determine the condition of the stocks and whether the current management measures are having the intended effects, to evaluate the benefits and costs of changes in management measures, and to monitor and respond to incidental takes of endangered and threatened marine animals.

Affected Public: Business or other for-profit organizations.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: January 5, 2009.
Gwellnar Banks,
Management Analyst, Office of the Chief Information Officer.

[FR Doc. E9-91 Filed 1-7-09; 8:45 am]

BILLING CODE 3510-22-P